DEPARTMENT OF DEFENSE

Department of the Air Force

Intent To Grant an Exclusive Patent License

SUMMARY: Pursuant to the provisions of 37 CFR 404.4, which implements Public Law 96-517, as amended, the Department of the Air Force announces its intention to grant to EMTEC, a non-profit member based organization registered in Ohio, having a place of business at 3155 Research Blvd., Dayton, Ohio 45420, an exclusive license in any right, title, and interest the Air Force has in the invention described in: Air Force invention number AFD 881, entitled Light Emitting Diode with a Deoxyribonucleic Acid (DNA) Biopolymer Phosphor Based Coating for Solid State Lighting Object.

FOR FURTHER INFORMATION: License for this invention will be granted unless a written objection is received within fifteen (15) days from the date of publication of this Notice. Written objections should be sent to: Air Force Materiel Command Law Office, AFMCLO/JAZ, Building 11, room D18, 2240 B Street, Wright-Patterson AFB OH 45433-7109, Attention, Bart S. Hersko. Telephone: (937) 255-2838; Facsimile (937) 255-3733 or e-mail: Bart.Hersko@wpafb.af.mil.

Bao-Anh Trinh,
Air Force Federal Register Liaison Officer.

[FR Doc. E8-29163 Filed 12-9-08; 8:45 am]

BILLING CODE 5001-05-P